DEPARTMENT OF AGRICULTURE

Rural Utilities Service

[Docket Number: RUS-22-Telecom-0010]

Rural eConnectivity Program

AGENCY: Rural Utilities Service, USDA.

ACTION: Funding Opportunity Announcement.

SUMMARY: The Rural Utilities Service, a Rural Development agency of the United States Department of Agriculture (USDA), hereinafter referred to as “RUS” or “the Agency” is issuing a Funding Opportunity Announcement (FOA) to announce that it is accepting applications for the second funding round in fiscal year 2022 (FY 22) for the Rural eConnectivity Program (the ReConnect Program) utilizing funding provided under the Infrastructure and Investment Jobs Act. In addition, this FOA defines requirements that are determined at the time a funding announcement is published, as outlined in the regulation.

DATES: Beginning on September 6, 2022, applications can be submitted through the RUS on-line application portal until 11:59 a.m. Eastern on November 2, 2022. Applications will not be accepted after November 2, 2022 until a new application opportunity has been opened with the publication of an additional FOA in the Federal Register.

ADDRESSES: Applications must be submitted electronically through the RUS on-line application portal located at https://www.usda.gov/reconnect. This FOA will be made available on Grants.gov.

FOR FURTHER INFORMATION CONTACT: For general inquiries regarding the ReConnect Program, contact Laurel Leverrier, Assistant Administrator, Telecommunications Program, Rural Utilities Service, U.S. Department of Agriculture (USDA), email laurel.leverrier@usda.gov, telephone: (202) 720-9554.

For inquiries regarding eligibility concerns, please contact the ReConnect Program Staff at https://www.usda.gov/reconnect/contact-us.

SUPPLEMENTARY INFORMATION:

Overview

Federal Agency: Rural Utilities Service.

Funding Opportunity Title: The Rural eConnectivity Program.

Announcement Type: Funding Opportunity Announcement.

Assistance Listing: 10.752.

Funding Opportunity Number (grants.gov): RUS-REC-2022-2

Dates: Beginning on September 6, 2022, applications can be submitted through the RUS on-line application portal until 11:59 a.m. Eastern on November 2, 2022. Applications will not be accepted after November 2, 2022 until a new application opportunity has been opened with the publication of an additional FOA in the Federal Register.

Administrative: The Agency encourages applicants to consider projects that will advance the following key priorities:

• Assisting Rural communities recover economically from the impacts of the COVID-19 pandemic, particularly disadvantaged communities.

• Ensuring all rural residents have equitable access to Rural Development programs and benefits from Rural Development funded projects.

• Reducing climate pollution and increasing resilience to the impacts of climate change through economic support to rural communities.

In addition, the Agency would like to highlight the importance of creating good-paying jobs with strong labor standards.

A. Program Description

1. Program purpose. The ReConnect Program provides loans, grants, and loan/grant combinations to facilitate broadband deployment in rural areas. In facilitating the expansion of broadband services and infrastructure, the program will fuel long-term rural economic development and opportunities in rural America.

2. Statutory authority. The ReConnect Program is authorized by the Consolidated Appropriations Act, 2018 (Pub. L. 115-141), which directs the pilot to be conducted under the Rural Electrification Act of 1936 (7 U.S.C. 901 et seq.). Since its establishment in 2018, the ReConnect Program has been implemented by issuing three prior FOAs that detailed the requirements for submitting an application. The ReConnect Program has received successive appropriations by Congress and has matured due to Agency experience and feedback provided by stakeholders. The policies and procedures for the ReConnect Program are codified in a final rule, 7 CFR part 1740, that was published in the Federal Register on February 26, 2021 (86 FR 11603). Among other things, those rules require that the applicant demonstrate that the project can be completely built out within five years from the date funds are first made available; the project is technically feasible; all project costs can be fully funded or accounted for; facilities funded with grant funds will provide the broadband service proposed in the application for the composite economic life of the facilities, as approved by RUS, or as provided in the Award Documents; and that facilities funded with loan funds must provide broadband service through the amortization period of the loan. Applicants should carefully review those rules in conjunction with this FOA.

This FOA will use funds appropriated for ReConnect under the Infrastructure Investment and Jobs Act (IIJA) (Pub. L. 117-58). Under this FOA, loans, grants, and loan/grant combinations will be made for the costs of construction, improvement, or acquisition of facilities and equipment needed to facilitate broadband deployment in rural areas.

The IIJA provides that in administering the ReConnect Program, the Secretary of Agriculture may, for purposes of determining entities eligible to receive assistance, consider those communities which are “Areas Rural in Character”, as defined in section 343(a)(13)(D) of the Consolidated Farm and Rural Development Act. USDA is currently developing the process that will be used to implement this option. Under this FOA, the Secretary of Agriculture is encouraging stakeholders to begin this process and accepting requests to designate communities as rural in character.

3. Definition of terms. The definitions applicable to this FOA are as follows:

i. Alaska Native Corporation means an Alaska Native Regional Corporation or an Alaska Native Village Corporation pursuant to the Alaska Native Claims Settlement Act, 43 U.S.C. 1602(g)(j).

ii. Local government means the administration of a particular town, county, or district, with representatives elected by those who live there.

iii. Persistent Poverty County is defined as any county with 20 percent or more of its population living in poverty over the past 30 years, as measured by the 1990 and 2000 decennial censuses, and the 2007-2011 American Community Survey 5-6 year average, or any territory or possession of the United States.

iv. Remote areas means areas classified by the USDA Economic Research Service as Frontier and Remote Area (FAR) Level 4. A geographic information system (GIS) layer of FAR Level 4 areas can be found at https://www.usda.gov/reconnect.

v. Socially Vulnerable Community means a community or area identified in the Center for Disease Control's Social Vulnerability Index with a score of .75 or higher. For the purposes of this FOA, Puerto Rico, Guam, America Samoa, the Northern Mariana Islands, Palau, the Marshall Islands, the Federated States of Micronesia, the U.S. Virgin Islands, and Hawaiian Census Tribal areas are considered to be Socially Vulnerable Communities. A GIS layer identifying the Socially Vulnerable Communities can be found at https://www.usda.gov/reconnect.

vi. Sufficient access to broadband (7 CFR 1740.2) means any rural area in which households have fixed, terrestrial broadband service defined as 100 megabits per second (Mbps) downstream and 20 Mbps upstream.

vii. System requirements (7 CFR 1740.3(a)(2)). Facilities proposed to be constructed with award funds must be capable of delivering 100 Mbps symmetrical service to every premise in the Proposed Funded Service Area (PFSA). Please note that capable of delivering 100 Mbps symmetrical service to every premise means that all premises in the PFSA must be able to receive this service at the same time.

viii. Tribal Government means the governing body of an Indian or Alaska Native tribe, band, nation, pueblo, village, or community listed pursuant to the Federally Recognized Indian Tribe List Act of 1994, 25 U.S.C. 5130.

ix. Tribal Land means any area identified by the United States Department of Interior as tribal land over which a Tribal Government exercises jurisdiction. A GIS layer of most Tribal Lands can be found on the RUS mapping tool located at https://www.usda.gov/reconnect.

x. Other definitions related to the ReConnect Program are contained in 7 CFR 1740.2.

B. Federal Award Information

1. Funding categories, interest rates and terms (7 CFR 1740.3(b)).

i. 100 Percent Loan. Applications will be processed and awarded on a rolling basis. In the event two loan applications are received for the same PFSA, the application submitted first will be considered first. The interest rate for a 100 percent loan will be set at a fixed 2 percent. Principal and interest payments will be deferred for three years. The amortization period will be based on the composite economic life of the assets funded plus three years.

ii. 50 Percent Loan/50 Percent Grant Combination. The interest rate for the 50 percent loan component will be set at the Treasury rate for the remaining amortization period at the time of each advance of funds. The latest Treasury rates that the ReConnect Program will be using can be found under U.S. government securities, available at: https://www.federalreserve.gov/releases/h15/. RUS also provides the latest information on interest rates here: https://www.rd.usda.gov/page/rural-utilities-loan-interest-rates#BaseRates. Loans shall bear interest equal to the cost of borrowing to the Department of Treasury for obligations of comparable maturity. Principal and interest payments will be deferred for three years. The amortization period will be based on the composite economic life of the assets funded plus three years. Applicants may propose substituting cash for the loan component at the time of application and funds must be deposited into the applicant's operating accounts at the closing of the award.

iii. 100 Percent Grant. Applicants must provide a matching contribution equal to at least 25 percent of the cost of the overall project. The applicant must clearly identify the source of the matching funds even if it is to be provided from the applicant's operating accounts. All matching funds must be deposited into the applicant's operating accounts.

Given the cashflow pinches on many telecommunications providers during the COVID pandemic, many previous awardees have requested complying with the matching requirement over time, rather than depositing all matching funds at once into the Pledged Deposit Account (PDA). Because of these extraordinary circumstances, RUS has agreed to modify the grant agreement to permit awardees to deposit the required matching and other required funds into the PDA on a rolling basis. If the matching funds are provided by a third party, a commitment letter from the third party must be submitted indicating that the funds will be available at the closing of the award if approved. The matching contribution can be used only for eligible purposes. If the applicant elects to initiate a loan to satisfy the matching requirement, documentation must be included as part of the application indicating the terms and conditions for the loan and that the grant funded assets cannot be used as collateral for the matching funds loan. The loan must be entered into and funds transferred into the applicant's accounts by the closing of the award.

iv. 100 Percent Grant for Alaska Native Corporations, Tribal Governments, Colonias, Persistent Poverty Areas and Socially Vulnerable Communities.

For applications submitted under this funding category that meet one of the following criteria, no matching funds will be required:

a. Alaska Native Corporations may submit an application to provide service on land owned by the corporation, as defined in the Alaska Native Claims Settlement Act. Applicants must submit documentation supporting the incorporation.

b. Tribal Governments may submit an application to provide service on Tribal Lands; lands held in trust by the United States for Native Americans; lands subject to restrictions on alienation imposed by the United States on Indian Lands; or land that they own, provide services to, or administer. Applicants must submit documentation supporting land ownership, services, or administration.

c. Projects where 75 percent of the applicant's PFSA(s) are located in areas recognized as Colonia as of October 1, 1989. Colonias are identified using the GIS layer (Colonia Areas) in the RUS mapping tool located at https://reconnect.usda.gov.

d. Projects where 75 percent of the applicant's PFSA(s) is located in persistent poverty counties, defined as any county with 20 percent or more of its population living in poverty over the past 30 years, as measured by the 1990 and 2000 decennial censuses, and the 2007-2011 American Community Survey 5-6 year average, or any territory or possession of the United States.

e. Projects where 75 percent of the area of an applicant's PFSA(s) consists of Socially Vulnerable Communities, as defined in section A.3.iv of this FOA.

Colonias, persistent poverty counties, Socially Vulnerable Communities, and most Tribal Lands are identified on the GIS layers included in the RUS mapping tool located at reconnect.usda.gov.

v. Projects where 90 percent of households lack sufficient access to broadband. Applications submitted under this funding category must demonstrate that 90 percent of the households in each PFSA do not have sufficient access to broadband as defined in this FOA. For applications submitted under this funding category, no matching funds will be required.

2. Maximum and minimum funding amounts (7 CFR 1740.3(b)).

i. 100 Percent Loan. Up to $150,000,000 is available for loans. The maximum amount that can be requested in an application is $50,000,000.

ii. 50 Percent Loan—50 Percent Grant Combination. Up to $150,000,000 is available for loans and up to $150,000,000 is available for grants. The maximum amount that can be requested in an application is $25,000,000 for the loan and $25,000,000 for the grant. Loan and grant amounts will always be equal.

iii. 100 Percent Grant. Up to $150,000,000 is available for grants. The maximum amount of grant funds that can be requested in an application is $25,000,000. However, to encourage broadband deployment in remote areas, if an applicant provides supporting information that demonstrates that the PFSA(s) is comprised 100 percent of areas classified by the USDA Economic Research Service as FAR Level 4, the applicant may request up to $35,000,000. A GIS layer of FAR Level 4 areas can be found at https://www.usda.gov/reconnect.

iv. 100 Percent Grant for Alaska Native Corporations, Tribal Governments, Colonias, Persistent Poverty Areas and Socially Vulnerable Communities. Up to $350,000,000 is available for grants. The maximum amount of grant funds that can be requested in an application is $25,000,000. However, to encourage broadband deployment in remote areas, if an applicant provides supporting information that demonstrates that the PFSA(s) is comprised 100 percent of locations within areas classified by the USDA Economic Research Service as FAR Level 4, the applicant may request up to $35,000,000. A GIS layer of FAR Level 4 areas can be found at https://www.usda.gov/reconnect.

v. Projects serving areas where 90% of households lack sufficient access to broadband. Up to $200,000,000 is available for grants. The maximum amount of grant funds that can be requested in an application is $25,000,000. USDA reserves the right to offer funding to eligible Round 3 applicants once all awards from the current round have been made.

vi. Minimum amount. The minimum amount that can be requested in any ReConnect Program application is $100,000.

vii. Repooling. For categories that do not receive applications that request the full amount of allocated funds, excess funds may be directed to another funding category at RUS's discretion, including but not limited to eligible applications not funded in Round 3. Additionally, if RUS does not make awards in the full amount allocated to a category, RUS may, at its discretion, direct such excess funds to another category or round of funding.

viii. Additional funding. RUS may at its discretion, increase the total level of funding available in this funding round or in any category in this funding round from any available source provided the awards meet the requirements of the statute which made the funding available to the agency.

C. Eligibility Information

1. Eligibility requirements. The eligibility requirements for the ReConnect Program are published at 7 CFR part 1740, subpart B.

2. Eligible service areas. The following areas are eligible:

i. For a PFSA to be eligible for funding under this FOA, except for funding category B.1.v, at least 50 percent of the households in the PFSA must lack sufficient access to broadband as defined in this FOA. Applicants must submit evidence that sufficient access to broadband does not exist for 50 percent of the households in the PFSA, identify all existing providers in the PFSA, and indicate what level of service is being provided. If these areas are found to have sufficient service beyond the threshold, the application may be rejected.

ii. Pursuant to the Consolidated Appropriations Act, 2021 (Pub. L. 116-260), the service areas of existing RUS borrowers without sufficient access to broadband, as defined in this FOA, are eligible for ReConnect funding.

iii. Areas receiving, or under consideration for other Federal funds are eligible for ReConnect funding as long as an entity has not received final approval to receive other Federal funding to construct terrestrial facilities providing at least 100/20 Mbps service in the proposed funded service areas as of September 6, 2022. With respect to RDOF, final approval for this FOA means an RDOF awardee's long-form application has received final approval as ready-to-authorize or has been authorized to begin receiving support. Applicants submitting a project to serve an area in which an entity has already received final approval for other Federal funding must explain in the application why ReConnect funding is being requested and why RUS should provide additional funding, as funds must not be used for duplicative purposes. Awardees that receive both other Federal funds and ReConnect funding must submit a statement certifying that the funds requested from ReConnect have not and will not be reimbursed by another Federal award nor used to reimburse another Federal award, and that the Awardee will keep separate accounts for each source of funding to track the uses of the funding to support the certification statement submitted with the ReConnect application. RUS can consider adjusting the service area or award amount of a project selected for ReConnect funding if in the course of evaluating an application, the Agency learns that the service area or a portion of it is already sufficiently served or has received final approval for Federal funding to construct facilities that will provide sufficient access to broadband as defined under this FOA.

3. Tribal Government Resolution of Consent. Pursuant to 7 CFR 1740.60(d)(19), a certification from the appropriate tribal official is required if service is being proposed over or on Tribal Lands. The appropriate certification is a Tribal Government Resolution of Consent. The appropriate tribal official is the Tribal Council of the Tribal Government with jurisdiction over the Tribal Lands at issue. Any applicant that fails to provide a certification to provide service on the Tribal Lands identified in the PFSA will not be considered for funding.

4. Pre-application and environmental review expenses. The costs associated with satisfying the environmental review requirements are also eligible for reimbursement as pre-application expenses. Up to three percent of the requested award funds can be used for this purpose. Please note that any environmental expenses will count as part of the overall five percent that is allowable for pre-application expenses.

In addition, up to three percent of the requested amount can be used to fund post-award monitoring expenses that are required to mitigate any environmental requirements as long as they are capitalized as part of the project. This cost must be specified in the Professional Services section of Capital Investment Workbook included as part of the application system.

Pre-application expenses that were incurred under the previous round of ReConnect, but benefit an application for this round, may be funded up to the five percent of the total award in this round.

5. Pole attachment. Pole attachment fees associated with the construction funded under this FOA are eligible for funding throughout the five-year construction period. In addition, if the pole owner requires that a pole needs to be replaced to support the broadband facilities, the cost of the pole replacement is also an eligible expense.

6. Advance of funds. For this FOA, the advance of funds for a 50/50 loan grant combination will be as follows: (a) funds substituted for the loan component will be advanced first, (b) loan funds will be advanced second and (c) grant funds will be advanced third. The advance of funds for 100 percent grants that require a matching component will be prorated against the amount of matching funds that are required and the amount of the grant funds approved.

7. Community Project Funding/Congressionally Directed Spending. The Consolidated Appropriations Act, 2022 (Pub. L. 117-103), included funding in the ReConnect Program for nineteen specific broadband projects. The proposed service areas for these projects are not eligible for funding under this FOA. A GIS layer of the proposed service areas for these nineteen projects are located in the ReConnect Mapping Tool and can be viewed at https://www.usda.gov/reconnect.

8. Cybersecurity risk management. It is the policy of the United States to strengthen the security and resilience of its critical infrastructure against both physical and cyber threats. Applicants selected for Federal funding under this notice must demonstrate, prior to the signing of the award agreement, effort to consider and address cybersecurity risks consistent with the cybersecurity performance goals for critical infrastructure and control systems directed by the National Security Presidential Memorandum on Improving Cybersecurity for Critical Infrastructure Control Systems, or the current draft of these goals, found at https://www.cisa.gov/control-systems-goals-and-objectives.

9. Audit requirements. Non-Federal entities are subject to 2 CFR part 200, and therefore are only required to submit a single audit in compliance with 2 CFR part 200.

10. Affordable Connectivity Program. To ensure that all Americans can access reliable, high-speed internet, this vital service must also be affordable. The Affordable Connectivity Program (ACP), established by the IIJA, is a benefit program that helps households afford the broadband service they need for work, school, healthcare, civic engagement, and economic opportunity. To make the ACP benefit available to eligible households, internet providers also need to participate in the program. Therefore, to ensure that rural households can take advantage of the ACP benefit, applicants selected for Federal funding under this notice will be required to apply to participate in the ACP before award funds are disbursed.

D. Application and Submission Information

1. All requirements for submission of an application under the ReConnect Program are subject to 7 CFR part 1740.

2. Applications must be submitted through the Agency's online application system located on the ReConnect web page, https://www.usda.gov/reconnect. All materials required for completing an application are included in the online system. Please note there are a number of supporting documents that will need to be uploaded through the application system.

3. Applicants can submit only one application. Applicants may start multiple applications in the system but only one can be submitted.

E. Application Review Information

1. Evaluation. All applications are subject to the submission and evaluation requirements contained in 7 CFR part 1740, subpart E.

2. Scoring. Applications that have a grant component will be scored based on the following criteria:

i. Rurality of PFSA (25 Points). Points will be awarded for serving the least dense rural areas as measured by the population of the PFSA per square mile or if the PFSA is located at least one hundred miles from a city or town that has a population of greater than 50,000 inhabitants. If multiple service areas are proposed, the density calculation will be made on the combined areas as if they were a single area and not the average densities. For population densities of 6 or less or if the PFSA is located one hundred miles from a city or town of 50,000, 25 points will be awarded.

ii. Level of existing service (25 Points). Projects that are proposing to build in areas where at least 50 percent of the households in each proposed service area are not receiving service of at least 25 Mbps downstream and 3 Mbps upstream will receive 25 points. Applicants must provide supporting evidence that 25/3 service does not exist for those households. To the extent possible, applicants must identify all existing providers in the PFSA and indicate what level of service is actually being provided.

iii. Economic need of the community (20 Points). Economic need is based on the county poverty percentage of the PFSA in the application. The percentages must be determined by utilizing the United States Census Small Area Income and Poverty Estimates (SAIPE) Program. For applications where 75 percent of the PFSA(s) are proposing to serve communities with a SAIPE score of 20 percent or higher, 20 points will be awarded. Proposed funded service areas located in geographic areas for which no SAIPE data exist will be determined to have an average SAIPE poverty percentage of 30 percent. Such geographic areas may include territories of the United States or other locations eligible for funding through the ReConnect Program. A GIS layer identifying SAIPE areas can be found in the RUS mapping tool located at https://reconnect.usda.gov.

iv. Affordability (20 Points). Applications can receive 20 points if, in their service offerings, they include at least one low-cost option offered at speeds that are sufficient for a household with multiple users to simultaneously telework and engage in remote learning.

v. Labor Standards (20 points). It is important that necessary investments in broadband infrastructure be carried out in ways that produce high-quality infrastructure, avert disruptive and costly delays, and promote efficiency. The Agency understands the importance of promoting workforce development and encourages recipients to ensure that broadband projects use strong labor standards, consistent with Tribal laws when projects propose to build infrastructure on Tribal Lands. Using these practices in construction projects not only promotes effective and efficient delivery of high-quality infrastructure and supports the economic recovery through employment opportunities for workers, but may also help to ensure a reliable supply of skilled labor that would minimize disruptions, such as those associated with labor disputes or workplace injuries.

Applicants should include in their applications a description of whether and, if so, how the project will incorporate three categories of strong labor standards and protections:

a. Strong labor standards: whether workers (including employees of contractors and subcontractors) will be paid wages at or above the prevailing rate; ¹ whether the project will be covered by a project labor agreement; and/or whether the project will use a unionized project workforce;

¹ This means that all laborers and mechanics employed by contractors and subcontractors in the performance of such project are paid wages at rates not less than those prevailing, as determined by the U.S. Secretary of Labor in accordance with subchapter IV of chapter 31 of title 40, United States Code (commonly known as the “Davis-Bacon Act”) or, for the corresponding classes of laborers and mechanics employed on projects of a character similar to the contract work in the civil subdivision of the State (or the District of Columbia) in which the work is to be performed, or by the appropriate state entity pursuant to a corollary state prevailing-wage-in-construction law (commonly known as “baby Davis-Bacon Acts”).

b. Demonstrated compliance with and plans for future compliance with labor and employment laws: whether the applicant, has any violations of tribal, state or federal labor, workplace safety and health, or employment laws within the last five years; and/or whether the applicant, its contractors, or subcontractors will commit to union neutrality; and/or whether the applicant, its contractors, or subcontractors will commit to permitting workers to create worker-led health and safety committees that management will meet with upon reasonable request; and

c. A plan to recruit and support an appropriately skilled, trained and credentialed workforce (including by contractors and subcontractors): whether work will be performed by a directly employed workforce or whether the employer has policies and practices in place to ensure employees of contractors and subcontractors are qualified; how the applicant will ensure use of an appropriately skilled workforce (e.g., through Registered Apprenticeships or other joint labor-management training programs that serve all workers, particularly those underrepresented or historically excluded); how the applicant will ensure use of an appropriately credentialed workforce (i.e., satisfying requirements for appropriate and relevant pre-existing occupational training, certification, and licensure); and/or whether a locally-based workforce will be used. In addition, the plan should include whether there are any partnerships with training providers, unions, or community colleges to support the recruitment and training of the workforce.

For applicants that commit to strong labor standards, consistent with Tribal Laws when the project proposes to build infrastructure on Tribal Lands, 20 points will be awarded. An applicant requesting these points must incorporate components from each of the three categories above. Projects that propose to build infrastructure on Tribal Lands must follow Tribal laws such as Tribal Employment Rights Ordinances to be in compliance with a ReConnect award, regardless of receiving points under this standard. The Agency reserves the right to adjust award amounts for unforeseen circumstances.

vi. Tribal areas (15 Points). For applicants that are Tribal governments and Tribal government wholly-owned entities and, at least, 75 percent of the geographical area of the PFSA(s) is on Tribal lands, 15 points shall be awarded. For non-Tribal governmental entities where at least 50 percent of the geographical area of the PFSA(s) is on Tribal Lands, 10 points shall be awarded. Tribal Lands will be analyzed using the GIS layers (Tribal Area (BIA LAR); Tribal Supplemental Area (BIA LAR); and Tribal Statistical Area (BIA)) in the RUS mapping tool located at https://reconnect.usda.gov. For applicants that are ANCs or Alaska Native Tribal Governments where at least 50 percent of the geographical area of the PFSA(s) is on Census Tribal areas in Alaska, 15 points shall be awarded. For non-ANC or non-Alaska Native Tribal Government entities where at least 50 percent of the geographical area of the PFSA(s) is on Census Tribal areas in Alaska, 10 points shall be awarded. Census Tribal areas in Alaska will be analyzed using the GIS layer (Alaska Census Tribal Areas) layer in the RUS mapping tools located at https://reconnect.usda.gov.

vii. Local governments, non-profits and cooperatives (15 points). Applications submitted by local governments, non-profits or cooperatives (including for projects involving public-private partnerships where the local government, non-profit, or cooperative is the applicant) will be awarded 15 points.

viii. Socially Vulnerable Communities (15 points). For applications where at least 75 percent of the PFSA(s) are proposing to serve Socially Vulnerable Communities, as defined in this FOA, 15 points will be awarded.

ix. Net neutrality (10 points). For applicants that commit to net neutrality principles, 10 points will be awarded. A board resolution or its equivalent must be submitted in the application committing that the applicant's networks shall not (a) block lawful content, applications, services, or non-harmful devices, subject to reasonable network management; (b) impair or degrade lawful internet traffic on the basis of internet content, application, or service, or use of a non-harmful device, subject to reasonable network management; and (c) engage in paid prioritization, meaning the management of a broadband provider's network to directly or indirectly favor some traffic over other traffic, including through use of techniques such as traffic shaping, prioritization, resource reservation, or other forms of preferential traffic management, either (1) in exchange for consideration (monetary or otherwise) from a third party, or (2) to benefit an affiliated entity.

x. Wholesale broadband services (10 points). Companies that propose to buy market access, bandwidth, functionality and servicing on a wholesale basis with the intent of reselling their purchased “capacity” on the retail market to businesses and consumers, with terms that are reasonable and nondiscriminatory, will receive 10 points.

F. Federal Award Administration Information

1. Closing, servicing and reporting. All applications are subject to the requirements contained in 7 CFR part 1740, subpart F.

2. Compliance with applicable law. Use of funds for this program shall comply with requirements outlined in the Secure and Trusted Communications Networks Act of 2019 (Pub. L. 116-124). Listed equipment and services covered by Section 2 of The Secure and Trusted Communications Networks Act are prohibited. See https://www.fcc.gov/supplychain/coveredlist for details.

3. Other requirements. All applications are subject to the additional requirements contained in 7 CFR part 1740, subpart G.

4. Ineligible costs. A recipient may not use grant or loan funds, whether directly or indirectly as an offset for other funds, to support or oppose union organizing.

G. Federal Awarding Agency Contacts

Any questions should be addressed to the contact information located in the FOR FURTHER INFORMATION CONTACT section of this FOA.

H. Build America, Buy America

1. Funding to non-Federal entities. Funding to non-Federal entities, defined pursuant to 2 CFR 200.1 as any State, local government, Indian tribe, Institution of Higher Education, or nonprofit organization, shall be governed by the requirements of Section 70914 of the Build America, Buy America Act (BABA) within the IIJA.

2. Funding to entities that are not non-Federal entities. Funding to any entity that is not a non-Federal entity shall be governed by the Agency's Buy American requirement at 7 CFR part 1787.

I. Other Information

1. Paperwork Reduction Act. In accordance with the Paperwork Reduction Act of 1995, the information collection requirements associated with the ReConnect Program, as covered in this FOA, have been approved by the Office of Management and Budget (OMB) under OMB Control Number 0572-0152. This funding announcement does not create any new information collection requirements nor does it change existing information collection requirements.

2. Congressional Review Act. Pursuant to Subtitle E of the Small Business Regulatory Enforcement Fairness Act of 1996 (also known as the Congressional Review Act or CRA), 5 U.S.C. 801 et seq., the Office of Information and Regulatory Affairs in the Office of Management and Budget designated this action as a major rule as defined by 5 U.S.C. 804(2), because it is likely to result in an annual effect on the economy of $100,000,000 or more. Accordingly, there is a 60-day delay in the effective date of this action. Application selection will not begin until after October 3, 2022. Therefore, the 60-day delay required by the CRA is not expected to have a material impact upon the administration and/or implementation of the ReConnect Program.

3. USDA Non-Discrimination Statement. In accordance with Federal civil rights law and USDA civil rights regulations and policies, the USDA, its Mission Areas, agencies, staff offices, employees, and institutions participating in or administering USDA programs are prohibited from discriminating based on race, color, national origin, religion, sex, gender identity (including gender expression), sexual orientation, disability, age, marital status, familial status, family/parental status, income derived from a public assistance program, political beliefs, or reprisal or retaliation for prior civil rights activity, in any program or activity conducted or funded by USDA (not all bases apply to all programs). Remedies and complaint filing deadlines vary by program or incident.

Program Information may be made available in languages other than English. Persons with disabilities who require alternative means of communication to obtain program information (e.g., Braille, large print, audiotape, American Sign Language, etc.) should contact the responsible Mission Area, Agency, or staff office; the USDA TARGET Center at 202-720-2600 (voice and TTY); or the Federal Relay Service at (800) 877-8339.

To file a program discrimination complaint, a complainant should complete a Form AD-3027, USDA Program Discrimination Complaint Form, which can be obtained online at https://www.usda.gov/sites/default/files/documents/usda-program-discrimination-complaint-form.pdf, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Christopher A. McLean,
Acting Administrator, Rural Utilities Service.

[FR Doc. 2022-16694 Filed 8-1-22; 11:15 am]

BILLING CODE 3410-15-P